DEPARTMENT OF HEALTH AND HUMAN SERVICES

Health Resources and Services Administration

National Advisory Council on Migrant Health; Cancellation of Meeting

Name: National Advisory Council on Migrant Health.

Dates and Times: December 4, 2012, 8:30 a.m. to 5:00 p.m. December 5, 2012, 8:00 a.m. to 12:00 p.m.

STATUS: The meeting of the National Advisory Council on Migrant Health, scheduled for December 4 and 5, 2012, is cancelled. This cancellation applies to all sessions of the meeting. The meeting was announced in the Federal Register of November 8, 2012 (77 FR 67014).

FOR FURTHER INFORMATION CONTACT: Gladys Cate, Office of Special Population Health, Bureau of Primary Health Care, Health Resources and Services Administration, 5600 Fishers Lane, Room 15-74, Rockville, Maryland 20857; telephone (301) 594-0367.

Dated: November 20, 2012.
Bahar Niakan,
Director, Division of Policy and Information Coordination.

[FR Doc. 2012-28699 Filed 11-26-12; 8:45 am]

BILLING CODE 4165-15-P